DEPARTMENT OF LABOR

Employment and Training Administration

[TA-W-57,567A and TA-W-57,567B]

Cequent Electrical Products—Breakaway Switches Product Line and Cable Connectors Product Line, Albion, Indiana; Notice of Revised Determination on Reconsideration of Alternative Trade Adjustment Assistance

By letter dated November 22, 2005, a company official requested administrative reconsideration regarding Alternative Trade Adjustment Assistance (ATAA) applicable to workers of the subject firm. The negative determination was signed on September 14, 2005, and soon will be published in the Federal Register.

The workers of Cequent Electrical Products, Breakaway Switches Product Line, Albion, Indiana (TA-W-57,567A) and Cequent Electrical Products, Cable Connectors Product Line, Albion, Indiana (TA-W-57,567B) were certified eligible to apply for Trade Adjustment Assistance (TAA) on September 14, 2005.

The initial ATAA investigation determined that the skills of the subject worker group are easily transferable to other positions in the local area.

In the request for reconsideration, the company official provided new information confirming that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of Cequent Electrical Products, Breakaway Switches Product Line, Albion, Indiana (TA-W-57,567A) and all workers of Cequent Electrical Products, Cable Connectors Product Line, Albion, Indiana (TA-W-57,567B), who became totally or partially separated from employment on or after July 15, 2004 through September 14, 2007, are eligible to apply for trade adjustment assistance under Section 223 of the Trade Act of 1974 and are also eligible to apply for alternative trade adjustment assistance under Section 246 of the Trade Act of 1974.

Signed in Washington, DC, this 3rd day of February, 2006.
Elliott S. Kushner,
Certifying Officer, Division of Trade Adjustment Assistance.

[FR Doc. E6-1911 Filed 2-9-06; 8:45 am]

BILLING CODE 4510-30-P